DEPARTMENT OF TRANSPORTATION

Federal Aviation Administration

14 CFR Part 39

[Docket No. FAA-2018-0771; Product Identifier 2018-CE-029-AD; Amendment 39-19619; AD 2019-07-08]

RIN 2120-AA64

Airworthiness Directives; GA 8 Airvan (Pty) Ltd Airplanes

AGENCY: Federal Aviation Administration (FAA), Department of Transportation (DOT).

ACTION: Final rule.

SUMMARY: We are adopting a new airworthiness directive (AD) for GA 8 Airvan (Pty) Ltd Model GA8 and Model GA8-TC320 airplanes. This AD results from mandatory continuing airworthiness information (MCAI) issued by an aviation authority of another country to identify and correct an unsafe condition on an aviation product. The MCAI describes the unsafe condition as certain wing strut fittings manufactured with incorrect grain orientation, which has an unknown effect on fatigue related concerns. We are issuing this AD to require actions to address the unsafe condition on these products.

DATES: This AD is effective May 23, 2019.

The Director of the Federal Register approved the incorporation by reference of a certain publication listed in the AD as of May 23, 2019.

ADDRESSES: You may examine the AD docket on the internet at http://www.regulations.gov by searching for and locating Docket No. FAA-2018-0771; or in person at Docket Operations, U.S. Department of Transportation, Docket Operations, M-30, West Building Ground Floor, Room W12-140, 1200 New Jersey Avenue SE, Washington, DC 20590.

For service information identified in this AD, contact GA 8 Airvan (Pty) Ltd, c/o GippsAero Pty Ltd, Attn: Technical Services, P.O. Box 881, Morwell Victoria 3840, Australia; telephone: + 61 03 5172 1200; fax: +61 03 5172 1201; email: aircraft.techpubs@mahindraaerospace.com. You may view this referenced service information at the FAA, Policy and Innovation Division, 901 Locust, Kansas City, Missouri 64106. For information on the availability of this material at the FAA, call (816) 329-4148. It is also available on the internet at http://www.regulations.gov by searching for Docket No. FAA-2018-0771.

FOR FURTHER INFORMATION CONTACT: Doug Rudolph, Aerospace Engineer, FAA, Small Airplane Standards Branch, 901 Locust, Room 301, Kansas City, Missouri 64106; telephone: (816) 329-4059; fax: (816) 329-4090; email: doug.rudolph@faa.gov.

SUPPLEMENTARY INFORMATION:

Discussion

We issued a notice of proposed rulemaking (NPRM) to amend 14 CFR part 39 by adding an AD that would apply to GA 8 Airvan (Pty) Ltd Model GA8 and Model GA8-TC320 airplanes. The NPRM was published in the Federal Register on September 17, 2018 (83 FR 46900). The NPRM proposed to correct an unsafe condition for the specified products and was based on mandatory continuing airworthiness information (MCAI) originated by the Civil Aviation Safety Authority (CASA), which is the aviation authority of the Commonwealth of Australia. The MCAI states:

Amendment 1 of this [CASA] AD is issued to amend the replacement times as Service Bulletin GA8-2017-174 Issue 2 changed the mandatory replacement times for part number GA8-570026-035 strut from 6000 hours time in service or 3 calendar years to 9000 hours time in service or 5 calendar years, whichever occurs first.

A manufacturing quality escape has resulted in wing strut fittings in the effective serial number range to be manufactured with incorrect grain orientation. The fatigue implications of the incorrect grain are not well understood. Therefore, CASA has mandated a conservative factored fatigue life limit based on the known fleet data of the affected aircraft. CASA will continue to gather data for the purposes of managing the fleet removal of these fittings from service.

The MCAI can be found in the AD docket on the internet at: https://www.regulations.gov/document?D=FAA-2018-0771-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

We reviewed GippsAero Service Bulletin SB-GA8-2017-174, Issue 2, dated May 23, 2018. The service information describes procedures for wing strut and strut fitting inspection and replacement. This service information is reasonably available because the interested parties have access to it through their normal course of business or by the means identified in the ADDRESSES section.

Costs of Compliance

We estimate that this AD would affect 50 airplanes of U.S. registry. The average labor rate is $85 per work-hour.

We estimate that it would take about 8 work-hours and $200 for parts to do the initial inspections of this AD, for a cost of $880 per airplane and $44,000 for the U.S. operator fleet. We estimate that it would take about 5 work-hours and $200 for parts to do the repetitive inspections, for a cost of $625 per airplane and $31,250 for the U.S. operator fleet per inspection cycle.

In addition, we estimate that replacing the struts and strut fittings would take about 10 work-hours and require parts costing $7,000, for a cost of $7,850 per airplane and $392,500 for the U.S. operator fleet.

Reporting the inspection findings would require about 1 work-hour, for a cost of $85 per airplane and $4,250 for the U.S. operator fleet per inspection cycle.

According to the manufacturer, some of the costs of this AD may be covered under warranty, thereby reducing the cost impact on affected individuals. We do not control warranty coverage for affected individuals. As a result, we have included all costs in our cost estimate.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, completing and reviewing the collection of information. All responses to this collection of information are mandatory as required by this AD; the nature and extent of confidentiality to be provided, if any. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the internet at http://www.regulations.gov by searching for and locating Docket No. FAA-2018-0771; or in person at Docket Operations between 9 a.m. and 5 p.m., Monday through Friday, except Federal holidays. The AD docket contains the NPRM, the regulatory evaluation, any comments received, and other information. The street address for Docket Operations (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-07-08 GA 8 Airvan (Pty) Ltd: Amendment 39-19619; Docket No. FAA-2018-0771; Product Identifier 2018-CE-029-AD.

(a) Effective Date

This AD becomes effective May 23, 2019.

(b) Affected ADs

None.

(c) Applicability

This AD applies to GA 8 Airvan (Pty) Ltd Model GA8 and Model GA8-TC320 airplanes, certificated in any category, with a strut or strut fitting installed that has a part number and serial number listed in table 1 of GippsAero Service Bulletin SB-GA8-2017-174, Issue 2, dated May 23, 2018 (GippsAero SB-GA8-2017-174, Issue 2).

(d) Subject

Air Transport Association of America (ATA) Code 57: Wings.

(e) Reason

This AD was prompted by mandatory continuing airworthiness information (MCAI) issued by the aviation authority of another country to identify and correct an unsafe condition on an aviation product. The MCAI describes the unsafe condition as certain wing strut fittings manufactured with incorrect grain orientation, which has an unknown effect on fatigue-related concerns. We are issuing this AD to detect and address fatigue-related damage to the wing strut fittings, which could lead to failure of the wing with consequent loss of control of the airplane.

(f) Actions and Compliance

Unless already done, do the following actions in paragraphs (f)(1) through (7) of this AD:

(1) Within 3 months after May 23, 2019 (the effective date of this AD) or within 100 hours time-in-service (TIS) after May 23, 2019 (the effective date of this AD), whichever occurs first, with the wing struts removed, visually inspect each forward and aft wing strut fitting and fuselage attachment point for cracks, corrosion, and damage. If there is a crack, any corrosion, or any damage, before further flight, do the applicable corrective actions (including checking torque, restoring surface protection, reworking areas with fouling, and replacing any part with a crack, corrosion, or damage). Follow the procedures in Parts C1, C2, and D or E, as applicable, in the Accomplishment Instructions in GippsAero SB-GA8-2017-174, Issue 2.

(2) Within 3 months after May 23, 2019 (the effective date of this AD) or within 100 hours TIS after May 23, 2019 (the effective date of this AD), whichever occurs first, and thereafter at intervals not to exceed 100 hours TIS, visually inspect each strut and strut fitting for cracks, corrosion, and damage. If there is a crack, any corrosion, or any damage, before further flight, do the applicable corrective actions (including checking torque, restoring surface protection, and replacing any part with a crack, corrosion, or damage). Follow the procedures in Parts B and D or E, as applicable, in the Accomplishment Instructions of GippsAero SB-GA8-2017-174, Issue 2.

(3) Within 1,000 hours TIS after doing the inspections required in paragraph (f)(1) of this AD and thereafter at intervals not to exceed 1,000 hours TIS, with the wing struts installed, visually inspect each forward and aft wing strut, strut fitting, and strut fitting lug hole for cracks, corrosion, and damage. If there is a crack, any corrosion, or any damage, before further flight, do the applicable corrective actions (including additional inspections, replacing hardware, and replacing any part with a crack, corrosion, or damage). Follow the procedures in Parts C3 and D or E, as applicable, in the Accomplishment Instructions of GippsAero SB-GA8-2017-174, Issue 2.

(4) To use an eddy current or fluorescent liquid penetrant inspection method instead of a visual inspection for the requirements in paragraph (f)(1) of this AD, the Manager, Small Airplane Standards Branch, FAA must approve your inspection method, and the Manager's approval letter must specifically refer to this AD. Send your approval request to the contact information found in paragraph (g)(1) of this AD.

(5) As of May 23, 2019 (the effective date of this AD), remove from service each part on or before exceeding its replacement time listed in Parts D and E of table 3 of GippsAero SB-GA8-2017-174, Issue 2, and replace with an airworthy part by following the procedures in Part D or Part E, as applicable, in the Accomplishment Instructions of GippsAero SB-GA8-2017-174, Issue 2.

(6) For each part that has, on May 23, 2019 (the effective date of this AD), exceeded its replacement time listed in Parts D and E of table 3 of GippsAero SB-GA8-2017-174, Issue 2, you may comply with the requirements in paragraph (f)(5) of this AD within 100 hours TIS after May 23, 2019 (the effective date of this AD) or within 12 months after May 23, 2019 (the effective date of this AD), whichever occurs first.

(7) Within 24 hours after each inspection required in paragraphs (f)(1) and (2) of this AD, submit a report of the inspection results as specified in the Document Compliance Notice of GippsAero SB-GA8-2017-174, Issue 2, even if no damage is found, to the Civil Aviation Safety Authority (CASA) and GA 8 Airvan (Pty) Ltd. Also include in the report the total hours TIS on the airplane and the type of operation. You may use the contact information found in paragraph (i)(3) of this AD to contact GA 8 Airvan (Pty) Ltd. To contact CASA, use the online CASA Defect Reporting Service at the following internet address: https://drs.casa.gov.au/.

(g) Other FAA AD Provisions

The following provisions also apply to this AD:

(1) Alternative Methods of Compliance (AMOCs): The Manager, Small Airplane Standards Branch, FAA, has the authority to approve AMOCs for this AD, if requested using the procedures found in 14 CFR 39.19. Send information to ATTN: Doug Rudolph, Aerospace Engineer, FAA, Small Airplane Standards Branch, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must instead be accomplished using a method approved by the Manager, Small Airplane Standards Branch, FAA; or CASA.

(3) Reporting Requirements: A federal agency may not conduct or sponsor, and a person is not required to respond to, nor shall a person be subject to a penalty for failure to comply with a collection of information subject to the requirements of the Paperwork Reduction Act unless that collection of information displays a currently valid OMB Control Number. The OMB Control Number for this information collection is 2120-0731. Public reporting for this collection of information is estimated to be approximately 1 hour per response, including the time for reviewing instructions, searching existing data sources, gathering and maintaining the data needed, completing and reviewing the collection of information. All responses to this collection of information are voluntary; the nature and extent of confidentiality to be provided, if any. Send comments regarding this burden estimate or any other aspect of this collection of information, including suggestions for reducing this burden to: Information Collection Clearance Officer, Federal Aviation Administration, 10101 Hillwood Parkway, Fort Worth, TX 76177-1524.

(h) Related Information

Refer to MCAI issued by CASA, AD No. AD/GA8/9, Amendment 1, dated May 29, 2018. You may examine the MCAI on the internet at http://www.regulations.gov by searching for and locating Docket No. FAA-2018-0771.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) GippsAero Service Bulletin SB-GA8-2017-174, Issue 2, dated May 23, 2018 (ii) [Reserved]

(3) For service information identified in this AD, contact GA 8 Airvan (Pty) Ltd, c/o GippsAero Pty Ltd, Attn: Technical Services, P.O. Box 881, Morwell Victoria 3840, Australia; telephone: + 61 03 5172 1200; fax: +61 03 5172 1201; email: aircraft.techpubs@mahindraaerospace.com.

(4) You may view this service information at the FAA, Policy and Innovation Division, 901 Locust, Kansas City, Missouri 64106. For information on the availability of this material at the FAA, call (816) 329-4148. In addition, you can access this service information on the internet at http://www.regulations.gov by searching for and locating Docket No. FAA-2018-0771.

(5) You may view this service information that is incorporated by reference at the National Archives and Records Administration (NARA). For information on the availability of this material at NARA, call 202-741-6030, or go to: http://www.archives.gov/federal-register/cfr/ibr-locations.html.

Issued in Kansas City, Missouri, on April 5, 2019.
Melvin J. Johnson,
Deputy Director, Policy & Innovation Division, Aircraft Certification Service.

[FR Doc. 2019-07702 Filed 4-17-19; 8:45 am]

BILLING CODE 4910-13-P